DEPARTMENT OF AGRICULTURE

Forest Service

Lolo National Forest—Butte Lookout Project

AGENCY: Forest Service, USDA.

ACTION: Notice of Intent to prepare Environmental Impact Statement.

SUMMARY: The Forest Service will prepare an environmental impact statement (EIS) for timber harvesting, prescribed burning, road access changes, and watershed rehabilitation in a 12,000-acre drainage area near Missoula, Montana.

DATES: Comments concerning the scope of the analysis should be received in writing within 30 days following publication of this notice. Comments received during the initial scoping in December 2005, will be considered in the analysis and do not need to be resubmitted during this comment time period.

ADDRESSES: Send written comments to Maggie Pittman, District Ranger, Missoula Ranger District, Building 24 Fort Missoula, Missoula, MT 59804.

FOR FURTHER INFORMATION CONTACT: Don Stadler, Interdisciplinary Team Leader, Missoula Ranger District, as above, or phone: (406) 329-3731.

SUPPLEMENTARY INFORMATION: The responsible official who will make decisions based on this EIS is Deborah L. R. Austin, Lolo National Forest, Building 24 Fort Missoula, Missoula, MT 59804. She will decide on this proposal after considering comments and responses, environmental consequences discussed in the Final EIS, and applicable laws, regulations, and policies. The decision and reasons for the decision will be documented in a Record of Decision.

In 1996, Missoula District completed an “ecosystem analysis at the watershed scale” for the South Fork of Lolo Creek watershed. Ecosystem analysis takes a look at the big picture and integrate projects to achieve long-term Lolo National Forest management goals and desired future conditions. This ecosystem analysis provided the basis for this proposed action.

The proposed management action is to harvest and/or burn about 70 units totaling about 1,455 acres using one to five commercial timber sale(s), and to decommission around 27.9 miles of system and non-system roads. Of that 1,455 acre total, about 1,180 acres would be regneration harvested and/or burned and about 275 acres would be commercially thinned. Less than one mile of permanent new roads would be constructed. About 1.1 miles of short-term road would be built to Forest Service standards, used for harvest, and reclaimed to their original contour after use. A combination of Best Management Practices (BMPs) measures, such as check dams in ditches, sediment basins, additional ditch relief pipes, lined ditches, and other surface drainage devices, would be installed on about 41 miles of system roads that access the units. Treatment areas and distances may change slightly as the alternatives are developed and more accurately mapped.

The Butte Lookout Project is needed at this time because:

1. The transportation analysis indicates that, due in part to the evolution of logging systems; we have more miles of roads than are needed to manage forest resources in the West Fork Butte Creek (WFBC) drainage. In the absence of a regular program of forest management activities, road maintenance dollars are inadequate to maintain the entire road system, and therefore, some of the roads are producing sediment that reaches WFBC. WFBC has elevated instream sediment levels that are above referencedconditions (S. Fk. of Lolo Creek Watershed Analysis). The lowest reaches of WFBC were harvested with high density jammer roads in the 1950s and 1960s (primarily in Marshall Creek). The jammer roads have mostly grown closed but some may still contribute sediment to the creek. From the middle 1960s through the 1970s, the majority of the south-facing private lands in lower WFBC were roaded and harvested. In the 1970s and 1980s, an extensive road system was constructed on federal and private lands within the drainage for timber management. This road system now provides administrative motorized access throughout the watershed. Roads constructed prior to the 1980s generally were not surfaced and did not employ as many erosion devices or rolling grades to control surface drainage as we now use. As the Forest re-entered the drainage in the 1980s and 1990s, the roads used for that timber harvest generally had some drainage control added, although more is still needed to meet today's standards to reduce sediment delivery. There are about 85 miles of Forest Service road in the WFBC drainage. This includes about three miles of road that are open year-long, 46 miles of road closed to public travel year-long, and 13 miles of road with seasonal restrictions. In addition there are about 11 miles of historic road and 12 miles of jammer road which are not drivable and not considered forest system roads. The high road densities which are characteristic of jammer road development are inappropriate for current yarding technology and land management philosophy. Many of the roads were abandoned without consideration for long-term erosion control and hydrological requirements within the drainage. The culverts which remain are at risk of failure over the long-term since they are not being maintained and generally have inadequate flow capacity if a significant runoff event occurs. The historic roads are those which are no longer functioning as roads but which have not been officially disposed of. These roads typically have only partially revegetated and have a road prism which is intact. Like the jammer roads, these roads may have inadequate road drainage control and undersized culverts. The system roads are primarily used for fire protection, administrative use, minimal road and culvert maintenance, motorized recreation, and walk in recreation. Some of the roads have been identified as no longer needed for management of the area. This road system not contributes sediment to the creek and its tributaries. Some of the roads have undersized culverts (some are fish barriers) or design features which need to be improved or replaced.

2. Aquatic habitat in WFBC is in poor overall condition because of the 1910 fire and management activities since 1950. Raised sediment levels are affecting spawning success and reducing available rearing habitat for native fish species, including the federally listed bull trout. There is a low amount of good pool habitat and a lack of large woody debris in the stream, and as a result, over-winter areas are lacking in the WFBC. Native species must move into the extreme lower reaches of the stream or into the South Fork Lolo Creek to find high quality, complex pool habitat capable of sustaining them through the winter. Seven undersized or perched culverts are barriers to aquatic organism passage, making about 12 miles of streams unavailable as fish habitat. There are some valley bottom roads along stream banks and in riparian zones which negatively affect aquatic habitat, channelize streams, and reduce overall stream sinuosity. This has resulted in increased gradients and hydraulic forces in the channel, causing bank erosion and bedload movement. Direct sediment routing to stream channels also occurs via streambank and riparian roads. These roads are also reducing the amount of large woody debris that enters and stays in the stream. The overall result of valley bottom roads is a reduction on aquatic habitat amount and complexity.

3. Landscape components (structure, composition, and function) have been adversely affected by dire suppression since 1910 by preventing the occurrence of moderate and low severity fires as well as any high severity stand replacing fires. There is a widespread infestation of bark beetles within the large area of high risk forests under drought stressed conditions. This equates to a high likelihood of significant continued tree mortality. The land within the project area is predominately allocated for timber management to provide sawlogs as a byproduct of achieving ecological objectives. The effect of fire suppression and the beetle epidemic is to change the composition of the forest away from the desired future conditions and objectives disclosed in forest plans, and in national, regional, and forest strategies.

4. Fire suppression has also reduced ecological resiliency to disturbances and has created a homogenization of the landscape. Fuels are now much more continuous than was thought to exist under more natural fire regimes. The primary missing fire effects are those realized by localized occurrences of low and mixed severity wildfires or emulated by prescribed fires. Periodic low-to-moderate severity fire favors Douglas-fir and lodgepole pine by setting back invasion by the more tolerant subalpine fir and spruce which, in the absence of fire, form dense understories and eventually take over the site. Further, these periodic fires would reduce ladder fuels and crown density thus lowering the risk of stand replacement fires via sustained crown fire. Large-scale bark beetle mortality and fuel accumulation has created a scenario where fires that burn in this landscape can reach thousands of acres very quickly.

5. Cumulative changes in vegetative structure, species composition, and distribution on the landscape from fire exclusion and past timber harvest on federal and private lands directly relate to wildlife habitat. Some wildlife species have benefited from these changes while others have been affected negatively. A goal of this proposal is restore forest stands and associated wildlife habitat to a condition that represents what occurred historically with emphasis on habitat factors that are limited or degraded at the project and landscape scales. Vegetative stands within the project area are primarily in Fire Group 6 (Fischer and Bradley 1987). These stands are typically comprised of ponderosa pine, larch, Douglas fir (and in some cases lodgepole pine), in a multistoried arrangement. Existing canopy closures and stem densities are very high and these conditions do not favor the regeneration of shade intolerant species such as larch and ponderosa pine. Historically, wildfires at roughly 15-40 year intervals created conditions in which these low-to-moderate severity burned forests were generally more open but also more spatially diverse at the stand, watershed and landscape scales. In addition, these fires resulted in site preparation for larch and ponderosa pine regeneration, created fire killed patches of wildlife habitat, and also scarred large diameter trees, resulting in long standing snags. Species dependant on large diameter snags, old forests with open understory and a heterogeneous distribution of habitat conditions across the landscape benefit under these conditions. Such species include Flammulated owls, northern goshawks and pileated woodpeckers.

The decision to be made is to what extent, if at all, the Forest Service should conduct timber harvest, prescribed burning, road construction or reconstruction, road reclamation, and road closures in the Lolo Creek drainage, given the above purpose and need. This is a site-specific project decision, not a general management plan nor a programmatic analysis.

Public scoping has been conducted on most elements of this proposal both with this proposal and an earlier version of this proposal.

While quite a number of issues have been identified for environmental effects analysis, the following issues have been found significant enough to guide alternative development and provide focus for the EIS:

(1) Water quality and fisheries habitat effects resulting from timber harvest and road construction and rehabilitation activities;

(2) Wildlife habitat effects resulting from timber harvest and road construction and rehabilitation activities;

(3) Effects of treatments on site productivity, forest health, vegetative condition, and species composition, individually and cumulatively,

(4) Effects of treatment on area scenic values, and

(5) Economic effects on local communities resulting from different intensities of restoration treatments and resulting timber values.

The Lolo Forest Plan provides the overall guidance for management activities in the project area through its Goals, Objectives, Standards and Guidelines, and Management Area direction.

The proposed action could have both beneficial and adverse effects on forest resources. In addition to the proposed action, a range of alternatives will be developed in response to issues identified during scoping. One of these will be the ``no-action'' alternative, which would not allow vegetation manipulation through harvest or any road decommissioning under this analysis. Other alternatives may examine various combinations of treatment areas. The Forest Service will analyze and document the direct, indirect, and cumulative environmental effects of the alternatives. In addition, the EIS will include site specific mitigation measures and discussions about their effectiveness.

Public participation is important to the analysis. People may visit with Forest Service officials at any time during the analysis and prior to the decision. No formal scoping meetings are planned. However, two periods are specifically designated for comments on the analysis:

(1) During this scoping process and

(2) During the draft EIS comment period.

During the scoping process, the Forest Service is seeking information and comments from Federal, State, and local agencies and other individuals or organizations that may be interested in or affected by the proposed action. A scoping document will be mailed to parties known to be interested in the proposed action. The agency invites written comments and suggestions on this action, particularly in terms of issues and alternatives. Persons who provided comments in the past on this project do not have to resubmit them. Those previously stated concerns will be incorporated into this analysis.

The Forest Service will continue to involve the public and will inform interested and affected parties as to how they may participate and contribute to the final decision. Another formal opportunity for public response will be provided following completion of a draft EIS.

The draft EIS should be available for review in June 2007. The final EIS is scheduled for completion in September of 2007.

The comment period on the draft EIS will be 45 days from the date the Environmental Protection Agency publishes the notice of availability in the Federal Register.

The Forest Service believes it is important, at this early, to give reviewers notice of several court rulings related to public participation in the environmental review process. First, reviewers of draft environmental impact statements must structure their participation in the environmental review of the proposal so it is meaningful and alerts the agency to the reviewer's position and contentions (Vermont Yankee Nuclear Power Corp. v. NRDC, 435 U.S. 519, 533 (1978)). Also, environmental objections that could be raised at the draft environmental impact statement stage but are not raised until after completion of the final environmental impact statement may be waived or dismissed by the courts (City of Angoon v. Hodel, 803 F.2d 1016, 1022 (9th Cir. 1986) and Wisconsin Heritages v. Harris, 490 F. Supp. 1334, 1338 (E.D. Wis. 1980)). Because of these court rulings, it is very important those interested in this proposed action participate by the close of the 45-day comment period so substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviews may wish to refer to the council on Environmental quality Regulations for implementing the procedural provisions of the National Environmental Policy Act at 40 CFR 1503.3 in addressing these points.

I am the responsible official for this environmental impact statement. My address is Lolo National Forest, Building 24, Fort Missoula, MT 59804.

Dated: January 11, 2007.
Deborah L. R. Austin,
Forest Supervisor, Lolo National Forest.

[FR Doc. 07-158 Filed 1-17-07; 8:45 am]

BILLING CODE 3410-11-M